ENVIRONMENTAL PROTECTION AGENCY

[ER-FRL-9046-6]

Environmental Impact Statements; Notice of Availability

Responsible Agency: Office of Federal Activities, General Information 202-564-5632 or https://www.epa.gov/nepa/.

Weekly receipt of Environmental Impact Statements

Filed 08/26/2019 Through 08/30/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190212, Final Supplement, USFS, MT, Stonewall Vegetation, Review Period Ends: 10/07/2019, Contact: Allen Byrd 406-495-3903

EIS No. 20190213, Final, USFWS, MT, National Bison Range Final Comprehensive Conservation Plan and Environmental Impact Statement, Review Period Ends: 10/07/2019, Contact: Vanessa Fields 406-727-7400, ext. 219

EIS No. 20190214, Draft, AZDOT, AZ, North-South Corridor Study Tier 1 Draft Environmental Impact Statement, Comment Period Ends: 10/29/2019, Contact: Katie Rodriguez 602-712-8858

EIS No. 20190215, Final, CTDOH, CT, Resilient Bridgeport, Review Period Ends: 10/07/2019, Contact: Rebecca French 860-270-8231

EIS No. 20190216, Final, USFWS, BLM, NV, Hycroft Mine Phase II Expansion Project, Review Period Ends: 10/07/2019, Contact: Taylor Grysen 775-623-1500

EIS No. 20190217, Final, USFWS, TX, Authorization of Incidental Take and Implementation of the LCRA Transmission Services Corporation Habitat Conservation Plan, Review Period Ends: 10/07/2019, Contact: Adam Zerrenner 512-490-0057

EIS No. 20190218, Final Supplement, NMFS, AK, Management of the Subsistence Harvest of Northern Fur Seals on St. Paul Island, Alaska, Review Period Ends: 09/26/2019, Contact: Michael Williams 907-271-5117

Under Section 1506.10(d) of the Council on Environmental Quality Regulations for Implementing the Procedural Provisions of the National Environmental Policy Act, the U.S. Environmental Protection Agency has Granted a 10-Day Waiver for the above EIS.

Amended Notice

EIS No. 20190179, Final, USFWS, CA, Delta Research Station Project: Estuarine Research Station and Fish Technology Center, Review Period Ends: 09/12/2019, Contact: Robert Clarke 916-414-6581

Revision to FR Notice Published 08/09/2019; Extending the Comment Period from 09/09/2019 to 09/12/2019.

Dated: September 3, 2019.
Robert Tomiak,
Director, Office of Federal Activities.

[FR Doc. 2019-19257 Filed 9-5-19; 8:45 am]

BILLING CODE 6560-50-P